DEPARTMENT OF COMMERCE

Foreign-Trade Zones Board

[Docket 20-2000]

Foreign-Trade Zone 160—Anchorage, Alaska; Application for Subzone, Tesoro Petroleum Corporation (Oil Refinery Complex), Kenai, Alaska.

An application has been submitted to the Foreign-Trade Zones Board (the Board) by the Municipality of Anchorage, grantee of FTZ 160, requesting special-purpose subzone status for the oil refinery complex of Tesoro Petroleum Corporation, located in Kenai, Alaska. The application was submitted pursuant to the provisions of the Foreign-Trade Zones Act, as amended (19 U.S.C. 81a-81u), and the regulations of the Board (15 CFR part 400). It was formally filed on May 5, 2000.

The refinery complex (488 acres, 174 employees) is located at mile 22.5 Kenai Spur Hwy. in Kenai, Alaska, on the coast of the Cook Inlet. The refinery (72,000 BPD) is used to produce fuels and liquid petroleum gases, including gasoline, jet fuel, distillates, residual fuels, naphthas, motor fuel blendstocks, liquefied natural gas, butane, isobutane, and propane. Refinery by-products include asphalt and sulfur. Some 36 percent of the crude oil, and some gas oil, distillates, and residual oils are sourced from abroad.

Zone procedures would exempt the refinery from Customs duty payments on the foreign products used in its exports. On domestic sales, the company would be able to choose the Customs duty rates that apply to certain petrochemical feedstocks and refinery by-products (duty-free) by admitting incoming foreign crude oil in non-privileged foreign status. The duty rates on inputs range from 5.25 cents/barrel to 10.5 cents/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below. The closing period for their receipt is July 17, 2000. Rebuttal comments in response to material submitted during the foregoing period may be submitted during the subsequent 15-day period to July 31, 2000.

A copy of the application and the accompanying exhibits will be available for public inspection at each of the following locations:

U.S. Department of Commerce, Export Assistance Center, 550 West 7th Ave. Suite 1770, Anchorage, AK 99501

Office of the Executive Secretary, Foreign-Trade Zones Board, Room 4008, U.S. Department of Commerce, 14th and Pennsylvania Avenue, N.W., Washington, D.C. 20230

Dated: May 7, 2000.
Dennis Puccinelli,
Acting Executive Secretary.

[FR Doc. 00-12209 Filed 5-15-00; 8:45 am]

BILLING CODE 3510-DS-P